DEPARTMENT OF TRANSPORTATION

Federal Aviation Administration

14 CFR Part 71

[Docket No. FAA-2021-0856; Airspace Docket No. 19-AAL-50]

RIN 2120-AA66

Establishment of United States Area Navigation (RNAV) Route T-381; Big Lake, AK

AGENCY: Federal Aviation Administration (FAA), DOT.

ACTION: Final rule; correction.

SUMMARY: This action corrects a final rule published by the FAA in the Federal Register on July 14, 2022, that establishes United States Area Navigation (RNAV) route T-381 in the vicinity of Big Lake, AK, in support of a large and comprehensive T-route modernization project for the state of Alaska. The final rule identified the GLOWS, AK, route point as a waypoint (WP), in error. This action makes an editorial correction to the reference of the GLOWS, AK, WP to change it to be reflected as a Fix and match the FAA's aeronautical database information.

DATES: Effective date 0901 UTC, September 8, 2022. The Director of the Federal Register approves this incorporation by reference action under 1 CFR part 51, subject to the annual revision of FAA Order 7400.11 and publication of conforming amendments.

ADDRESSES: FAA Order 7400.11F, Airspace Designations and Reporting Points, and subsequent amendments can be viewed online at www.faa.gov/air_traffic/publications/. For further information, you can contact the Rules and Regulations Group, Federal Aviation Administration, 800 Independence Avenue SW, Washington, DC 20591; telephone: (202) 267-8783.

FOR FURTHER INFORMATION CONTACT: Colby Abbott, Rules and Regulations Group, Office of Policy, Federal Aviation Administration, 800 Independence Avenue SW, Washington, DC 20591; telephone: (202) 267-8783.

SUPPLEMENTARY INFORMATION:

History

The FAA published a final rule in the Federal Register (87 FR 42070; July 14, 2022), establishing T-381 in support of a large and comprehensive T-route modernization project for the state of Alaska. Subsequent to publication, the FAA determined that the GLOWS, AK, route point was inadvertently identified as a WP, in error. This rule corrects that error by changing the reference of the GLOWS, AK, WP to the GLOWS, AK, Fix. This is an editorial change only to match the FAA's aeronautical database information and does not alter the alignment of the affected T-381 route.

United States Area Navigation Routes are published in paragraph 6011 of FAA Order JO 7400.11F, dated August 10, 2021, and effective September 15, 2021, which is incorporated by reference in 14 CFR 71.1. The RNAV T-route listed in this document will be published subsequently in FAA Order JO 7400.11.

Correction to Final Rule

Accordingly, pursuant to the authority delegated to me, reference to the GLOWS, AK, WP that is reflected in Docket No. FAA-2021-0856, as published in the Federal Register of July 14, 2022 (87 FR 42070), FR Doc. 2022-15064, is corrected as follows:

In FR Doc. 2022-15064, appearing on page 42071, in the third column, at line 62, correct

“GLOWS, AK | WP | (Lat. 64°26′15.88″ N, long. 148°15′17.88″ W)”

to read

“GLOWS, AK | FIX | (Lat. 64°26′15.88″ N, long. 148°15′17.88″ W).”

Issued in Washington, DC, on August 23, 2022.
Scott M. Rosenbloom,
Manager, Airspace Rules and Regulations.

[FR Doc. 2022-18431 Filed 8-26-22; 8:45 am]

BILLING CODE 4910-13-P